DEPARTMENT OF TRANSPORTATION

Federal Aviation Administration

14 CFR Parts 121, 125, and 135

[Docket Nos. 26930 & 27459]

RIN 2120-AE70 & 2120-AF09

Aircraft Ground Deicing and Anti-Icing Program & Training and Checking in Ground Icing Conditions

AGENCY: Federal Aviation Administration (FAA), DOT.

ACTION: Final rule, confirmation of effective date, and disposition of comments.

SUMMARY: On September 29, 1992, and December 30, 1993, the FAA published interim final rules requiring deicing operations in ground icing conditions. The interim final rules require part 121 certificate holders to develop and comply with an FAA approved ground deicing/anti-icing program; part 125 certificate holders to provide pilot testing on conducting operations in ground icing conditions; part 135 certificate holders to provide pilot training on conducting operations in ground icing conditions; and part 125 and 135 certificate holders to check airplanes for contamination (i.e., frost, ice, or snow) prior to takeoff when ground icing conditions exist. These rules were necessary to provide an added level of safety to flight operations during adverse weather conditions. The FAA invited comments on the interim final rules. This document responds to public comments and confirms the interim final rules as final rules. This action is part of our effort to address recommendations of the Government Accounting Office and the Management Advisory Council by reducing the number of aged items in the Regulatory Agenda.

EFFECTIVE DATE: This action makes final the interim final rules and confirms the original effective dates. The interim final rule on Aircraft Ground Deicing and Anti-Icing Program published at 57 FR 44924 is effective November 1, 1992. The interim final rule on Training and Checking in Ground Icing Conditions published at 58 FR 69620 is effective January 31, 1994.

ADDRESSES: The complete docket for the interim final rules on deicing may be examined at the Federal Aviation Administration, Office of the Chief Counsel, Attn: Rules Docket (AGC-200), Room 915-G, Docket Nos. 26930 & 27459, 800 Independence Ave., SW., Washington, DC 20591, weekdays (except federal holidays) between 9 a.m. and 5 p.m.

FOR FURTHER INFORMATION CONTACT: Daniel Meier, Air Carrier Operations Branch, Federal Aviation Administration, 800 Independence Avenue, SW., Washington, DC 20591; telephone 202-267-3749.

SUPPLEMENTARY INFORMATION:

Background

On July 23, 1992, the FAA published a Notice of Proposed Rulemaking (57 FR 32846) that would establish requirements for part 121 certificate holders to develop and comply with an FAA approved ground deicing/anti-icing program. The proposed rule was developed in response to a number of airplane accidents caused in part by icing and to recommendations from an international conference on aircraft deicing/anti-icing. Because of the urgency of the rulemaking, the FAA allowed for only a 15-day comment period.

On September 21, 1993, the FAA published proposed requirements for ground deicing procedures for parts 125 and 135 certificate holders (58 FR 49164). Under the proposal when ground icing conditions exist, parts 125 and 135 certificate holders would be required to check their airplanes for contamination prior to beginning takeoff. In addition, under the proposed changes to part 125, certificate holders would be required to provide pilot testing on ground deicing/anti-icing procedures, and under proposed changes to part 135, certificate holders would be required to provide pilot training on ground deicing/anti-icing procedures. The FAA proposed the requirements in response to part 135 accidents that were caused by pilots beginning takeoff with contamination adhering to critical airplane surfaces.

On September 29, 1992, the FAA published the part 121 interim rule (57 FR 44924) and on December 30, 1993, the FAA published the part 135 interim rule (58 FR 69620). The FAA requested comments on the interim final rules because the comment periods on the NPRMs were unusually short, and because the FAA anticipated that the first winter of implementation of the rules might provide additional information supporting either the continuation or modification of the rules. This action is in response to those comments and confirms the interim final rules as final rules.

Discussion of Comments

General

The FAA received 22 comments on the part 121 interim rule. Generally, most commenters favor the FAA's action. Several commenters address specific requirements in the part 121 interim rule and some recommend changes in the rule language.

The most significant issues addressed by commenters on the part 121 interim rule involve holdover times, pretakeoff checks, hard-wing aircraft, and the role of aircraft dispatchers. Additional issues addressed by commenters involve applicability, training, research, type of fluid, alternate procedures, need for an approved program, and air traffic control.

The FAA received only one comment on the part 135 interim rule. This commenter made specific recommendations to delete paragraphs from parts 125 and 135 that the commenter claims are inconsistent with the “Clean Aircraft concept.”

Icing Conditions

The only comment on the part 135 interim rule states that paragraph (a)(1) of both §§ 125.221 and 135.227, which permits takeoffs when there is frost adhering to the wings, or stabilizing or controlling surfaces, if the frost has been polished to make it smooth, is inconsistent with the Clean Aircraft concept. The commenter states that if this paragraph is included in the final rule it will allow the same type large turbine aircraft to be operated with less safety under parts 125 or 135 than under part 121.

FAA Response: While the FAA has no record of an unsafe operational history with aircraft operated under the current icing regulations of 14 CFR parts 125 and 135, we believe there may be validity to this comment and we may address the clean aircraft concept in a future agency action.

Holdover Times

The part 121 interim rule requires that a certificate holder's ground deicing/anti-icing program must include the certificate holder's holdover timetables and the procedures for the use of these tables by the certificate holder's personnel. The rule requires that takeoff after exceeding any determined holdover time is permitted only after (1) A pretakeoff contamination check determines that the wings, control surfaces, and other critical surfaces, as defined in the certificate holder's program, are free of frost, ice, or snow; or (2) it is otherwise determined by an approved alternative procedure that the wings, control surfaces, and other critical surfaces, as defined in the certificate holder's program, are free of frost, ice, or snow; or (3) the critical surfaces are redeiced and a new holdover time is determined.

Four commenters (Swissair, ALPA, Association of European Airlines (AEA), and an airline pilot) express concern with the reliability and use of holdover times. Swissair states it has always considered the holdover times as guideline and does not support the use of holdover time guidelines as the only criteria for a go/no-go decision. ALPA expresses a similar opinion. Three commenters (Canadair, ALPA, and an airline pilot) are concerned that with the wide range of holdover times pilots may mistakenly believe that a takeoff is safe, regardless of other factors, so long as it is made within the longer time limit. Swissair states that the range of holdover times cannot be considered “as a minimum/maximum value but rather more correctly as two maximums, depending on actual weather conditions.” Canadair states that it is not clear whether a “certificate holder's program is expected to quote a single holdover time for a specific situation or a range * * *” and that if a range is intended, the FAA needs to clarify the significance of the minimum time.

FAA Response: The FAA agrees with the commenters that a holdover time should not be used as the sole criteria for a go/no-go decision before the expiration of the holdover time. The FAA stated this in the preamble to the interim final rule and in paragraph 8c of Advisory Circular 120-60, Ground Deicing and Anti-Icing Program. In the part 121 interim rule the FAA cautioned that the holdover timetables are for use in departure planning only and shall be used in conjunction with pretakeoff check procedures. These tables provide only approximate time ranges. Each pilot-in-command (PIC) determines the appropriate holdover time for the type of fluid and the actual weather conditions. The fact that a determined holdover time has not yet expired would not alone justify a decision to take off if other conditions, such as the rate or type of precipitation, had worsened, or if the PIC has other information, such as expected delays, to warrant redeicing or re-inspecting the aircraft. Conversely, the final rule does not prohibit takeoff after a holdover time has expired, if certain additional actions are taken, e.g., a pretakeoff contamination check or an alternative check that indicates the aircraft is free of contamination.

The FAA agrees that the stated range in holdover times should not be used as a minimum and maximum value. The advisory circular specifically states that generally the maximum time within the holdover time range applies in light precipitation conditions and the minimum time applies to moderate to heavy precipitation conditions. In each case the holdover time is determined from within the stated range depending on the actual weather conditions. The FAA, therefore, has determined that the advisory circular provides sufficient guidance to pilots concerning holdover time; therefore, no further changes are required.

Aircraft Checks

If the determined holdover time has been exceeded, the part 121 interim final rule requires, as one alternative, a pretakeoff contamination check (§ 121.629(c)(3)(i)). A pretakeoff contamination check, as defined in § 121.629(c)(4), is a check to make sure the wings, control surfaces, and other critical surfaces, as determined in the certificate holders' program, are free of frost, ice, and snow. It must be accomplished from outside the aircraft unless the approved program specifies otherwise, and it must be completed within five minutes before takeoff.

A pretakeoff check is defined in § 121.629(c)(4) as a check of the aircraft's wings or representative aircraft surfaces for frost, ice, or snow within the holdover time. As stated in the preamble to the part 121 interim rule and to be consistent with the intended use of holdover timetables, certificate holders must accomplish a pretakeoff check whenever holdover timetables are used. Language has been added to § 121.629(c)(3) to make it clear that a pretakeoff check is integral to the use of holdover timetables.

The part 121 interim rule under § 121.629(d) also allows a certificate holder to continue to operate without a deicing program if the aircraft is checked to ensure that the wings, control surfaces, and other critical surfaces are free of frost, ice, and snow anytime conditions are such that frost, ice, or snow may reasonably be expected to adhere to the aircraft. The check must be completed within five minutes before takeoff and accomplished from outside the aircraft. This check is referred to as the “paragraph (d) outside-the-aircraft check.” As stated in the preamble to the part 121 interim rule, accomplishing this check may not be a viable option at certain airports, at certain peak departure times, and during certain weather conditions.

Twelve commenters (ALPA, NTSB, ATA, Fokker, Canadair, de Havilland, an airline pilot, AEA, Federal Express, Swissair, Association of Flight Attendants, and Aviatrends) address the issue of aircraft checks. The three sub-issues these commenters address are: (1) The adequacy of any check made from within the aircraft; (2) how the five minutes is measured; and (3) other aircraft check issues.

(1) Checks made from within the airplane. The NTSB, ALPA, de Havilland, Association Flight Attendants, Aviatrends, and an airline pilot all voice concern for the reliability of any check made from within the airplane. The NTSB expressed particular concern for visual observations involving swept-wing airplanes without leading edge devices. Aviatrends cited specific examples in which reports filed under NASA's Aviation Safety Reporting System indicated problems with checks from inside the aircraft. In one case where both Type I and Type II fluid had been applied, the first officer reported that it was impossible to see through Type II fluid on the cabin windows. A second report concluded that “the value of inspecting the wing for ice from inside the cabin, especially at night, is questionable” and the “Type II deicing fluid is the consistency of warm honey and when it covers the cabin windows very little can be seen through them.” ALPA expressed similar concerns and concluded that “the inspection from inside the aircraft is therefore turned into a presumption.”

FAA Response: Pretakeoff contamination checks, defined under § 121.629(c)(4) and required under § 121.629(c)(3)(i), must be accomplished from outside the aircraft unless the certificate holder's approved program specifies otherwise. Checks performed from inside the aircraft are not permitted unless the certificate holder has clearly defined and demonstrated procedures to allow the flight crew to assess the condition of the aircraft from inside the aircraft under various conditions (e.g., lighting, weather, visibility, etc.). The certificate holder's program should emphasize that if any doubt exists as to the condition of the aircraft after conducting this check, takeoff must not be attempted. In addition, as stated in the preamble to the part 121 interim rule, the ultimate authority and responsibility for the operation of the aircraft remain with the PIC. Therefore, whenever the PIC is not fully satisfied with the reliability of a check conducted from inside the aircraft, the PIC is expected to get the aircraft redeiced or request that an additional check be conducted from outside the aircraft.

(2) How the 5 minutes is measured. Several commenters (Swissair, ATA, Fokker, and AEA) question the intent of the rule language that requires that the pretakeoff contamination check must “be conducted” and the paragraph (d) check must “occur” within five minutes prior to beginning takeoff. These commenters point out that if this check can take five to fifteen minutes to accomplish, as the FAA stated in the preamble to the part 121 interim rule, the rule would be impractical unless it is interpreted to mean that the takeoff must occur within five minutes of completion of the check. While seeking clarification of the five-minute time requirement, AEA states that a measurement of five minutes after completing the checks would be problematic and could be dangerous unless there is a differentiation based on the type of fluid used.

FAA Response: The FAA's intent was that the pretakeoff contamination check and the paragraph (d) outside-the-aircraft check must be completed within five minutes prior to beginning takeoff. The FAA believes that a pretakeoff contamination check or a paragraph (d) outside-the-aircraft check completed within no more than five minutes prior to beginning takeoff is sufficiently close to takeoff, in most weather conditions, to ensure absence of contamination. Five minutes is a maximum time. The FAA expects PICs to use good judgment when weather conditions might dictate a shorter time.

(3) Other pretakeoff check issues. Canadair states that there is still a possibility of confusion between the two similarly worded terms “pretakeoff check” and “pretakeoff contamination check” and recommends that the latter be renamed “external contamination check.” AEA states its concern that since holdover times are only guidelines, they should not be used as “criteria to establish whether a more thorough check (pretakeoff contamination check) is required.”

FAA Response: The FAA believes that the aviation industry has become familiar with the distinction between the two checks. As stated under item (1) above, a holdover time is never the sole criteria in determining whether a takeoff should be attempted or whether another check is warranted. The PIC's evaluation of all the relevant factors and his or her exercise of good judgment are expected.

Hard Wing Aircraft

The part 121 interim rule does not contain any specific additional requirements for hard wing aircraft (i.e. aircraft without wing leading edge devices). The NPRM preamble stated that the FAA has issued Airworthiness Directives (AD) requiring a tactile check of specific hard wing aircraft in ground icing conditions. The FAA stated in the preamble to the part 121 interim rule that it would continue to deal with aircraft specific requirements by using ADs.

Five commenters (NTSB, Fokker, de Havilland, the Air Transport Association, and Embraer) comment on the issue of ground deicing as it affects aircraft commonly referred to as hard wing aircraft. The NTSB believes that special operational procedures are justified for hard wing aircraft. Conversely, the other four commenters state that the FAA does not have any valid basis for imposing additional requirements (e.g. a tactile check) on hard wing aircraft with aft-mounted engines. Of these commenters, only Fokker offers specific evidence to support its position. Primarily, Fokker disputes the NASA report that served as a partial basis for the FAA's conclusions concerning hard wing aircraft. Fokker maintains that the NASA report is inaccurate and that data produced in subsequent tests conducted by NASA and earlier tests conducted in Sweden do not support the need for applying any additional procedures to hard wing aircraft.

FAA Response: The part 121 interim rule imposed no special requirements for hard wing aircraft; however, the FAA has issued AD 92-03-01 and AD 92-03-02, which require special procedures for certain model DC-9 and MD-80 airplanes. These special procedures are based on the fact that these airplanes have a wing design that is particularly susceptible to loss of lift due to wing icing. Minute amounts of ice or other contaminates on the leading edge of these hard wings can cause an increase in stall speed of up to 30 knots. This increased stall speed may be well above the stall warning activation speed. Because of this phenomena, special guidance applicable to hard wing aircraft have been included in Advisory Circular (AC) 120-60.

Roles of Dispatcher and Pilot-in-Command (PIC)

The part 121 interim rule addresses the duties and responsibilities of the PIC and the aircraft dispatcher in determining whether a takeoff can be safely accomplished (§ 121.629(b) and (c)).

Three commenters address the proper roles of PICs and aircraft dispatchers. Swissair agrees with the FAA that the ultimate responsibility for determining if the aircraft is airworthy is with the PIC once the aircraft is released from ground personnel. Two commenters, both aircraft dispatchers, believe that § 121.629, as amended in the part 121 interim rule, does not give proper recognition to what they believe are joint responsibilities of aircraft dispatcher and pilot-in-command as reflected in §§ 1221.395, 121.533, 121.593, 121.599(a), 121.601(a), 121.605, and 121.627(a). Both commenters state that the cited sections indicate a joint responsibility between the aircraft dispatcher and the PIC for the safety of a flight and that the dispatcher's responsibility does not end with the release of the aircraft by the dispatcher. Rather, the dispatcher continues to be involved in the operational control of the aircraft throughout the flight. One of these commenters recommends that § 121.629 should be revised to specifically state that the aircraft dispatcher is involved with the PIC in the operational control of the aircraft and that this control includes dispatcher concurrence in computing or revising a holdover time and dispatcher initiation of an exterior tactile contamination check.

FAA Response: The FAA agrees that operational control of the aircraft is a joint responsibility between the PIC and the aircraft dispatcher. As stated in the preamble to the part 121 interim rule, a certificate holder's program may include holdover time coordination with the aircraft dispatcher; however, the real-time information required to determine or update the proper holdover time may be available only to the PIC. In this situation the PIC safety responsibility may require him or her to determine a holdover time without coordinating with the dispatcher. The FAA believes that the part 121 interim rule language does not diminish, and is consistent with, the traditional role of the aircraft dispatcher as stated in the sections cited above and therefore no change is made in the part 121 interim rule language.

Applicability

The part 121 interim rule applied to part 121 certificate holders only; however, the preamble for the interim final rule stated that the FAA would continue to study part 125 and 135 operations to determine if future rulemaking is required. Three comments address applicability. The NTSB reiterates its concern that the interim rule does not address part 125 and part 135 certificate holders. Empire Airlines states that, based on its experience as an operator under both parts 121 and 135, it believes a part 121-type program should not be imposed on part 135 operators. Canadair states that part 91 aircraft should also be included in any further study.

FAA Response: The FAA issued an interim final rule tailored to part 125 and 135 operators on December 30, 1993 (58 FR 69620). Presently, the FAA plans no part 91 rulemaking; however, guidance for part 91 operators on ground deicing/anti-icing practices and procedures is available in AC 120-58, Pilot Guide for Large Aircraft Ground Deicing, and AC 135-17, Pilot Guide for Small Aircraft Ground Deicing.

Training

The part 121 interim rule requires initial and recurrent ground training and testing for flight crewmembers and qualification for all other affected personnel. The training, testing, and qualifications must cover the use of holdover times, aircraft deicing/anti-icing procedures, contamination, types and characteristics of deicing/anti-icing fluids, cold weather preflight inspection procedures, and techniques for recognizing contamination.

Four commenters (NTSB, Fokker, Trans World Express and Finnair) address the issue of training. The NTSB states that the required recurrent training for flight crewmembers and involved ground personnel is “equally applicable to the FAA personnel involved in overseeing the airline programs.” Fokker believes that flight crew training is most important in preventing ground icing accidents and recommends that the “FAA should emphasize training in the use of rotation techniques suited to conditions where ground icing can be anticipated.” Trans World Express states that vendors (e.g. contract personnel who may work for several certificate holders) are required to receive the generic training over and over when the vendors really need it only once and recommends that the certificate holder be permitted to accept another certificate holder's qualification program for vendors as it pertains to deicing/anti-icing fluid application and dispersal. Finnair states that training is the most important short-term safety measure and should emphasize the overall picture of the conditions affecting the aircraft and not concentrate on any one item such as holdover timetables.

FAA Response: The FAA agrees with the NTSB regarding the need for FAA inspector ground deicing/anti-icing training. This training was provided to all Principal Aviation Safety Inspectors (Operations and Maintenance) before the part 121 interim rule was published.

The FAA agrees with Finnair and Fokker regarding their comments on training except to the extent that Fokker believes that pilots should be trained to use a different aircraft rotation technique during takeoff that, in its view, is more suited to conditions where ground icing can be anticipated. Training pilots in the proposed techniques, however, undermines the “clean aircraft” concept since the premise for using such techniques is that the PIC may be unsure of whether the aircraft is free of contamination. If contamination is adhering to critical surfaces of the aircraft, the takeoff would not comply with § 121.629(a), and the techniques recommended by Fokker are not a safe alternative to that compliance.

Conceptually, the FAA agrees with Trans World Express that redundant training is neither necessary nor useful for the trainee. On the other hand, the FAA cannot permit a certificate holder to use another certificate holder's or a vendor's deicing/anti-icing procedures unless those procedures have been approved by the principal inspectors of the certificate holder that wishes to use them.

Research

In the part 121 interim rule preamble, the FAA stated that further research is needed on issues such as the effects of airplane design on wing contamination and how this would affect pilot flying techniques. The preamble states that additional study is needed to assess the value of aircraft type specific pilot training for use in ground icing conditions. The NTSB and the Federal Express Corporation state support for further research of the type the FAA indicated in the part 121 interim rule preamble. Federal Express states support for further research on the use of holdover times and on the effects of airplane design and their interaction with contaminants, particularly for hard wing aircraft. The NTSB states that the highest research priority should be given to determining the possible contaminating effects of Type II fluids on runway friction. The NTSB also strongly supports continuing initiatives for the development of technical solutions to wing contaminant detection.

FAA Response: Within the past few years research has been initiated on several different areas related to the ground deicing problem. The FAA has published a report which describes ongoing research, entitled “Aircraft Ice Detectors and Related Technologies for Onground and Inflight Application.” It is available to the public through the National Technical Information Service, Springfield, VA 22161. The FAA is continuing to analyze holdover times in an effort to make them a more precise tool for determining an aircraft's contamination status. The FAA and the United States Air Force are cooperating with NASA Ames Research Center in the development of a new more environmentally friendly deicing/anti-icing fluid. Many different corporations and individual entrepreneurs are developing detection systems that might be used to detect contamination on an aircraft's critical surfaces. The FAA's Technical Center has completed initial studies that indicate Type II fluids do not have a significant effect on runway friction.

Types of Fluids

The part 121 interim rule does not require using any specific deicing/anti-icing fluid. The ground deicing AC 120-60 gives guidance in the use of deicing/anti-icing fluids, stating the advantages and disadvantages of Type I and Type II fluids. Two commenters (Fokker and Technoshield) address the question of Type II fluids. Fokker states that the FAA Advisory Circular incorrectly suggests that there may be disadvantages to Type II fluids with respect to decreasing the runway coefficient of friction. Technoshield suggests that the entire rulemaking will have the effect of precluding the use of Type I fluids.

FAA Response: As stated in the preamble to the part 121 interim rule, each type fluid has its benefits and intended usage. Each certificate holder, not the FAA, determines the type(s) of fluid to be used in its operations. Recent studies by the FAA indicate that no degradation of runway frictions greater than that occurring with water covered runway surfaces occurs with the use of Type II fluids.

The FAA does not believe that the rule affects the choice of fluid. Weather conditions and certificate holder practice will continue to determine the choice of fluid.

Alternative Procedures

Canadair suggests that it would be useful if the FAA issues advisory material on how to design, develop, and verify an alternative procedure for determination that critical surfaces are free of frost, ice, or snow, as is authorized under § 121.629(c)(3)(ii).

FAA Response: As was stated in the preamble to the part 121 NPRM, the “otherwise determined by an alternative procedure” language was included to cover changes in ambient conditions or industry development of approved new technologies. The FAA believes that certificate holders should take the initiative to develop such alternative procedures and submit them to the FAA for approval.

Need for Approved Program

ALPA states its belief that each carrier operating under part 121 should have an approved program and that, for the reasons stated in its earlier comments on the ground deicing NPRM, § 121.629(d) should be deleted.

FAA Response: The FAA believes that the only certificate holders under part 121 who do not have an approved ground deicing/anti-icing program are those who conclude it would be more cost effective to operate without such a program. These certificate holders might have to delay or cancel flights in icing conditions because the outside-the-aircraft check required under § 121.629(d) is not a viable option during certain weather conditions and at certain airports. If a certificate holder is able to conduct an outside-the-aircraft check and that check ensures that the aircraft is free of contamination, the FAA believes the check is an adequate substitute for an approved program.

Air Traffic Control

The NTSB referenced several of its previous recommendations that are not directly related to this rulemaking action but that are related to achieving more efficient planning for ground operations. The recommendations, if implemented, would reduce the probability that airplanes will exceed their deicing holdover times.

FAA Response: The FAA has undertaken a number of related actions, including, as part of certain airports' ground deicing plans, gate hold procedures (NTSB Recommendation A-93-19) and procedures that limit the time an aircraft spends on the ground after deicing (NTSB Recommendation A-93-20). These procedures have contributed to both improved safety during ground icing conditions and enhanced the overall departure and arrival rates during these conditions.

Environmental Analysis

These rules are federal actions that are subject to the National Environmental Police Act (NEPA). Under applicable guidelines of the President's Council on Environmental Quality and agency procedures implementing NEPA, the FAA normally prepares an environmental assessment (EA) to determine the need for an environmental impact statement (EIS) or whether a finding of no significant impact (FONSI) would be appropriate. (40 CFR 1501.3; FAA Order 1050.1D appendix 7. par. 3(a)). In the NPRMs the FAA invited comments on any environmental issues associated with the proposed rule, and specifically requested comments on the following: (1) Whether the proposed rule will increase the use of deicing fluids, (2) whether the proposed part 121 rule will encourage the use of Type II deicing fluid, (3) the impact, if any, of using these deicing fluids on taxiways “just prior to takeoff,” and (4) containment methods currently used that can be adapted to other locations on an airport. Only a few commenters to the part 121 NPRM addressed these environmental issues and most of these commenters focused more on the effect of Federal, state, and local environmental requirements and the lack of local facilities, than on the questions of the potential environmental impact of deicing fluids. A summary of the comments received, the FAA's response, and the findings of the FAA's Environmental Assessment appear in the preamble to the part 121 interim rule.

The Environmental Assessment (EA) which supported a Finding of No Significant Impact (FONSI) is included in the docket for this rulemaking. Except for the NTSB suggestion that the FAA conduct further research on runway contaminants, no further comments on environmental issues associated with this rulemaking were received following publication of the part 121 and part 135 interim rules. Nonetheless, as part of its long term efforts, the FAA will continue to work with certificate holders and with airport operators to monitor the actual and potential environmental effects of this rule and will take appropriate steps as necessary.

Conclusion

After consideration of the comments submitted in response to the interim final rules, the FAA has determined that no further rulemaking action is necessary. The interim final rule amending part 121 of title 14 of the Code of Federal Regulations, Amendment No. 121-231, entitled Aircraft Ground Deicing and Anti-Icing Program, published at 57 FR 44924 on September 29, 1992, is adopted as a final rule. The interim final rule amending parts 125 and 135 of title 14 of the Code of Federal Regulations, Amendment Nos. 125-18 and 135-46, entitled Training and Checking in Ground Icing Conditions, published at 58 FR 69620 on December 30, 1993, is adopted as a final rule.

Issued in Washington, DC, on August 19, 2002.
Monte R. Belger,
Acting Administrator.

[FR Doc. 02-21575 Filed 8-26-02; 8:45 am]

BILLING CODE 4910-13-P